DEPARTMENT OF TRANSPORTATION

Federal Aviation Administration

[Summary Notice No. PE-2004-21]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC on March 22, 2004.
Donald P. Byrne,
Assistant Chief Counsel for Regulations.

Dispositions of Petitions

Docket No.: FAA-2002-11562.

Petitioner: United Airlines.

Section of 14 CFR Affected: 14 CFR 121.697(a)(3), (b), (c), and (d) and 121.709(b)(3).

Description of Relief Sought/Disposition: To permit United Airlines to use computerized signatures to satisfy the airworthiness release signature requirements of part 121, in lieu of physical signatures.

Grant, 3/5/04, Exemption No. 5121H.

Docket No.: FAA-2002-11723.

Petitioner: United States Coast Guard.

Section of 14 CFR Affected: 14 CFR 91.117(b) and (c), 91.119(c), 91.159(a), and 91.209(a).

Description of Relief Sought/Disposition: To permit the United States Coast Guard to conduct air operations in support of drug law enforcement and drug traffic interdiction without meeting part 91 provisions governing: (1) Aircraft speed, (2) minimum safe altitudes, (3) cruising operations for flights conducted under visual flight rules, and (4) use of aircraft lights.

Grant, 3/2/04, Exemption No. 5231G.

Docket No.: FAA-2004-17233.

Petitioner: Mason County Aviation, Inc.

Section of 14 CFR Affected: 14 CFR 135.143(c)(2).

Description of Relief Sought/Disposition: To permit Mason County Aviation, Inc., to operate certain aircraft under part 135 without a TSO-C112 (Mode S) transponder installed on those aircraft.

Grant, 3/12/04, Exemption No. 8262.

Docket No.: FAA-2002-12762.

Petitioner: Air Madura LLC.

Section of 14 CFR Affected: 14 CFR 135.143(c)(2).

Description of Relief Sought/Disposition:

To permit Air Madura LLC to operate certain aircraft under part 135 without a TSO-C112 (Mode S) transponder installed on those aircraft.

Grant, 3/12/04, Exemption No. 7860A.

Docket No.: FAA-2002-12719.

Petitioner: Pathfinder Aviation.

Section of 14 CFR Affected: 14 CFR 135.143(c)(2).

Description of Relief Sought/Disposition: To permit Pathfinder Aviation to operate certain aircraft under part 135 without a TSO-C112 (Mode S) transponder installed on those aircraft.

Grant, 3/12/04, Exemption No. 7844A.

Docket No.: FAA-2002-11556.

Petitioner: Grant Aviation, Inc.

Section of 14 CFR Affected: 14 CFR 135.143(c)(2).

Description of Relief Sought/Disposition: To permit Grant Aviation, Inc., to operate certain aircraft under part 135 without a TSO-C112 (Mode S) transponder installed on those aircraft.

Grant, 3/12/04, Exemption No. 7221B.

Docket No.: FAA-2004-17214.

Petitioner: Croman Corporation.

Section of 14 CFR Affected: 14 CFR 135.143(c)(2).

Description of Relief Sought/Disposition: To permit Croman Corporation to operate certain aircraft under part 135 without a TSO-C112 (Mode S) transponder installed on those aircraft.

Grant, 3/12/04, Exemption No. 8261.

Docket No.: FAA-2002-12171.

Petitioner: Universal Airlines, Inc.

Section of 14 CFR Affected: 14 CFR 91.9(a).

Description of Relief Sought/Disposition: To permit operating of Universal Airlines, Inc.'s, DC-6A and DC-6B aircraft without complying with the zero fuel and landing weight requirements of the operating limitations prescribed for the aircraft in the Federal Aviation Administration approved flight manual, subject to certain conditions and limitations.

Grant, 3/11/04, Exemption No. 7829A.

Docket No.: FAA-2003-15510.

Petitioner: ATA Airlines, Inc.

Section of 14 CFR Affected: 14 CFR 121.693(e) and 121.697(e)(2).

Description of Relief Sought/Disposition: To permit ATA Airlines, Inc., to (1) prepare a load manifest for the military charter supplemental operations without including the names of passengers and (2) provide relief from the requirement to retain at its principal base of operations an original or a copy of the passenger list as part of the load manifest for at least 3 months.

Denial, 3/11/04, Exemption No. 8263.

Docket No.: FAA-2004-17218.

Petitioner: Centurion Flight Services, Inc.

Section of 14 CFR Affected: 14 CFR 135.143(c)(2).

Description of Relief Sought/Disposition: To permit Centurion Flight Services, Inc., to operate certain aircraft under part 135 without a TSO-C112 (Mode S) transponder installed on those aircraft.

Grant, 3/12/04, Exemption No. 8260.

Docket No.: FAA-2004-17184.

Petitioner: Ms. Suzanne K. Ishii-Regan and Mr. Matthew D. Regan, parents of Patrick Regan.

Section of 14 CFR Affected: 14 CFR 121.311(b) and 121.311(c)(1).

Description of Relief Sought/Disposition: To permit Patrick Regan to be secured by a personal safety belt, the E-Z-ON Modified Vest, while aboard an aircraft.

Grant, 3/13/04, Exemption No. 8264.

Docket No.: FAA-2001-11090.

Petitioner: Army Aviation Heritage Foundation.

Section of 14 CFR Affected: 14 CFR 91.319, 119.5(g), and 119.25(b).

Description of Relief Sought/Disposition: To permit the Army Aviation Heritage Foundation to operate its former military UH-1H (Huey) helicopter that holds an experimental airworthiness certificate for the purpose of carrying passengers on local educational flights.

Grant, 3/15/04, Exemption No. 7736B.

Docket No.: FAA-2003-15964.

Petitioner: Era Aviation, Inc.

Section of 14 CFR Affected: 14 CFR 121.354(b).

Description of Relief Sought/Disposition: To permit Era Aviation, Inc., to operate its de Havilland Canada DHC-6 Twin Otter aircraft after March 29, 2005, without having an approved terrain awareness and warning system that meets the requirements for Class A equipment in Technical Standard Order C151 installed on each aircraft, subject to certain conditions and limitations.

Grant, 3/15/04, Exemption No. 8270.

Docket No.: FAA-2004-17325.

Petitioner: Tulsa Air and Space Center Airshows, Inc.

Section of 14 CFR Affected: 14 CFR 91.315, 119.5(g), and 119.21(a).

Description of Relief Sought/Disposition: To permit Tulsa Air and Space Center Airshows, Inc., to operate its former military North American P-51 airplane for the purpose of carrying passengers on local flights for compensation or hire.

Denial, 3/13/04, Exemption No. 8268.

Docket No.: FAA-2002-11468.

Petitioner: The Collings Foundation.

Section of 14 CFR Affected: 14 CFR 91.319(a), 119.5(g), and 119.21(a).

Description of Relief Sought/Disposition: To permit The Collings Foundation to operate its military McDonnell Douglas F-4D Phantom II aircraft, which has an experimental airworthiness certificate, for the purpose of carrying passengers on local flights in return for receiving donations.

Denial, 3/11/04, Exemption No. 8267.

Docket No.: FAA-2002-11969.

Petitioner: Firelands Museum of Military History, Inc.

Section of 14 CFR Affected: 14 CFR 91.319, 119.5(g), and 119.25(b).

Description of Relief Sought/Disposition: To permit Firelands Museum of Military History, Inc., to operate its former military Bell UH-1H Huey helicopters, which were issued experimental airworthiness certificates for the purpose of exhibition, to carry passengers on local flights for compensation or hire.

Denial, 3/11/04, Exemption No. 8266.

Docket No.: FAA-2002-11884.

Petitioner: Indiana Aviation Museum, Inc.

Section of 14 CFR Affected: 14 CFR 91.315 and 91.319(a)(2).

Description of Relief Sought/Disposition: To permit Indiana Aviation Museum Inc., to operate its Cessna A-37 Attack Jet aircraft, Chance Vought F4U-5 Corsair aircraft, North American P-51D Mustang aircraft, and North American T-28B Trojan Aircraft, which have been issued limited or experimental airworthiness certificates, to carry passengers on local flights in return for donations.

Denial, 3/15/04, Exemption No. 8265.

[FR Doc. 04-6746 Filed 3-25-04; 8:45 am]

BILLING CODE 4910-13-P